DEPARTMENT OF ENERGY

Federal Energy Regulatory Commission

[Docket No. RP03-584-000]

ANR Pipeline Company; Notice of Proposed Changes in FERC Gas Tariff

September 11, 2003.

Take notice that on August 29, 2003, ANR Pipeline Company (ANR) tendered for filing, as part of its FERC Gas Tariff, Second Revised Volume No. 1, the following tariff sheets proposed to become effective September 1, 2003:

Fifty-Seventh Revised Sheet No. 8

Fifty-Seventh Revised Sheet No. 9

Fifty-Sixth Revised Sheet No. 13

Sixty-Ninth Revised Sheet No. 18

ANR states that the above-referenced tariff sheets are being filed to implement recovery of approximately $12.2 million of above-market costs that are associated with its obligation to Dakota Gasification Company (Dakota) and the Dakota buyout costs resulting from the assignment of the Gas Purchase Agreement with Dakota as well as related transportation capacity to BP Canada Energy Marketing Corp. ANR states that they propose a reservation surcharge applicable to its part 284 firm transportation customers to collect ninety percent of the Dakota costs, and an adjustment to the maximum base tariff rates of Rate Schedule ITS and overrun rates applicable to Rate Schedule FTS-2, so as to recover the remaining ten percent.

ANR states that the proposed changes would increase the current Above-Market Dakota Cost recoveries from $2,228,076 recovered over three months to $12,201,492 recovered over twelve months.

Any person desiring to be heard or to protest said filing should file a motion to intervene or a protest with the Federal Energy Regulatory Commission, 888 First Street, NE., Washington, DC 20426, in accordance with Sections 385.214 or 385.211 of the Commission's Rules and Regulations. All such motions or protests must be filed in on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”.

Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 16, 2003.

Magalie R. Salas,
Secretary.

[FR Doc. 03-23810 Filed 9-17-03; 8:45 am]

BILLING CODE 6717-01-P